DEPARTMENT OF JUSTICE

Antitrust Division

Notice Pursuant to the National Cooperative Research and Production Act of 1993—Schools Interoperability Framework Association

Notice is hereby given that, on November 4, 2009, pursuant to Section 6(a) of the National Cooperative Research and Production Act of 1993, 15 U.S.C. 4301 et seq. (“the Act”) Schools Interoperability Framework Association (“SIF Association”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Schools Interoperability Framework Association, Washington, DC. The nature and scope of SIF Association's standards development activities are: (1) To create a set of platform-independent, vendor-neutral definitions and interoperable specifications for software used by primary and secondary schools (pK-12); (2) to engage pK-12 institutions to identify gaps within the specifications; and (3) to engage local, state, federal, and international governmental agencies to make data more available by moving data that is stored only at the local level to higher reporting agencies.

Patricia A. Brink,
Deputy Director of Operations, Antitrust Division.

[FR Doc. E9-29948 Filed 12-16-09; 8:45 am]

BILLING CODE 4410-11-M